DEPARTMENT OF HEALTH AND HUMAN SERVICES

Centers for Medicare & Medicaid Services

Privacy Act of 1974; Retraction of a New System of Records

AGENCY: Department of Health and Human Services (HHS), Centers for Medicare & Medicaid Services (CMS).

ACTION: Notice of Retraction of a New System of Records.

SUMMARY: The Centers for Medicare & Medicaid Services CMS inadvertently published a new system of records titled “Master Demonstration, Evaluation, and Research Studies (DERS) for the Office of Research, Development and Information (ORDI)” System No. 09-70-0591 in the Federal Register (FR) on Tuesday, April 10, 2007 (72 FR 17918). CMS is withdrawing the Tuesday, April 10, 2007 notification due to the inadvertent inclusion of an existing system of records that should not be deleted from the existing inventory, “End Stage Renal Disease Program Management and Medical Information System,” System No. 09-70-0520, last published at 67 FR 41244 (June 17, 2002). The notice of a new system of records will be republished.

FOR FURTHER INFORMATION CONTACT: Inquiries may be directed to: CMS Privacy Officer, Division of Privacy Compliance, Enterprise Architecture and Strategy Group, Office of Information Services, CMS, Room N2-04-27, 7500 Security Boulevard, Baltimore, Maryland 21244-1850. He can also be reached at 410-786-5357 or by e-mail at walter.stone@cms.hhs.gov.

Dated: April 11, 2007.
William Saunders,
Acting Deputy Director, Office of Information Services, Centers for Medicare & Medicaid Services.

[FR Doc. E7-7400 Filed 4-18-07; 8:45 am]

BILLING CODE 4120-03-P